DEPARTMENT OF DEFENSE

Department of the Navy

Notice of Public Hearings for the Draft Environmental Impact Statement/Overseas Environmental Impact Statement for the Gulf of Mexico Range Complex

AGENCY: Department of the Navy, DoD.

ACTION: Notice.

SUMMARY: Pursuant to section 102(2)(c) of the National Environmental Policy Act (NEPA) as implemented by the Council on Environmental Quality Regulations (40 CFR Parts 1500-1508) and Executive Order 12114 Environmental Effects Abroad of Major Federal Actions, the Department of the Navy (Navy) has prepared and filed with the U.S. Environmental Protection Agency a Draft Environmental Impact Statement/Overseas Environmental Impact Statement (EIS/OEIS) for public release on January 2, 2009. The National Marine Fisheries Service (NMFS) is a cooperating agency for the EIS/OEIS. The Draft EIS/OEIS evaluates the potential environmental impacts over a 10-year planning horizon associated with Navy Atlantic Fleet training; research, development, testing, and evaluation (RDT&E) activities; and associated range capabilities enhancements (including infrastructure improvements) within the existing Gulf of Mexico (GOMEX) Range Complex.

The GOMEX Range Complex geographically encompasses offshore, near-shore, and onshore Operating Areas (OPAREAs), ranges, and special use airspace (SUA). Components of the GOMEX Range Complex encompass: 17,440 square nautical miles (nm²) of OPAREA sea space; 20,810 nm² of SUA off the coasts of Florida, Alabama, Mississippi, Louisiana, and Texas; 12,000 nm² of military operating areas over Florida, Alabama, Mississippi, and Texas; as well as 15 nm² of inland range areas in east-central Mississippi and east-central Texas.

The Navy will conduct four public hearings to receive oral and written comments on the Draft EIS/OEIS. Federal, state, and local agencies and interested individuals are invited to be present or represented at the public hearings. This notice announces the dates and locations of the public hearings for this Draft EIS/OEIS.

Dates and Addresses: Public hearings will be held on the following dates and locations:

1. February 2, 2009 at the Bay Point Marriott, 4200 Marriott Drive, Panama City Beach, FL 32408;

2. February 3, 2009 at the New World Inn, 600 South Palafox Street, Pensacola, FL 23502;

3. February 4, 2009 at the New Orleans Marriott, 555 Canal Street, New Orleans, LA 70130; and

4. February 6, 2009 at the Holiday Inn-Emerald Beach Hotel, 1102 South Shoreline Boulevard, Corpus Christi, TX 78401.

All meetings will start with an open house session from 5 p.m. to 7 p.m. followed by a formal public hearing presentation and public comment period from 7 p.m. to 9 p.m. The open house sessions will allow individuals to review the information presented in the GOMEX Range Complex Draft EIS/OEIS. Navy representatives will be available during the open house sessions to clarify information related to the Draft EIS/OEIS.

FOR FURTHER INFORMATION CONTACT: Naval Facilities Engineering Command, Atlantic, 6506 Hampton Boulevard, Norfolk, VA 23508-1278, Attn: Code EV22TW (GOMEX EIS/OEIS PM), Fax: 757-322-4894 or http://www.GOMEXRangeComplexEIS.com.

SUPPLEMENTARY INFORMATION: A Notice of Intent to prepare the GOMEX Range Complex Draft EIS/OEIS was published in the Federal Register on August 31, 2007 (72 FR 50333-50335). Four public scoping meetings were held at the following dates and locations:

1. September 24, 2007 at the Gulf Coast Community College, Panama City, FL;

2. September 25, 2007 at the Pensacola Junior College (Warrington Campus), Pensacola, FL;

3. September 26, 2007 at the Alfred Bonnabel High School, Metairie, LA; and

4. September 28, 2007 at the Holiday Inn-Emerald Beach Hotel, Corpus Christi, TX.

The proposed action is to support and conduct current, emerging, and future training and RDT&E operations in the GOMEX Range Complex by maintaining baseline training and testing operations at current levels; modifying training and testing as necessary in support of the Fleet Readiness Training Plan (FRTP); and implementing enhanced range complex capabilities. The FRTP implements the Fleet Response Plan, which ensures continuous availability of agile, flexible, trained, and ready surge-capable (rapid response) forces. No major changes to GOMEX Range Complex facilities, operations, training, or RDT&E capacities over the 10-year planning period are expected from the proposed action. Rather, the proposed action will result in relatively small-scale but critical range enhancements and changes to training and testing operations in the GOMEX Range Complex necessary for the Navy to maintain a state of military readiness commensurate with its national defense mission. The primary focus of the Draft EIS/OEIS is to address the recommended range enhancements and changes to current and future training and testing operations that have the potential to impact the environment.

The purpose for the proposed action is to: Achieve and maintain Fleet readiness using the GOMEX Range Complex to support and conduct current, emerging, and future training operations and RDT&E operations; expand warfare missions supported by the GOMEX Range Complex; and upgrade and modernize existing range capabilities to enhance and sustain Navy training and RDT&E. The need for the proposed action is to provide range capabilities for the training and equipping of combat-capable naval forces ready to deploy worldwide. In this regard, the GOMEX Range Complex furthers the Navy's execution of its Congressionally-mandated roles and responsibilities under Title 10 U.S.C. § 5062 by:

• Maintaining current levels of military readiness by training in the GOMEX Range Complex;

• Accommodating future increases in operational training tempo in the GOMEX Range Complex and supporting the rapid deployment of naval units or strike groups;

• Achieving and sustaining readiness of ships and squadrons so the Navy can quickly surge significant combat power in the event of a national crisis or contingency operation consistent with the FRTP;

• Supporting the acquisition and implementation into the Fleet of advanced military technology. The GOMEX Range Complex must adequately support the testing and training needed for new vessels, aircraft, and weapons systems; and

• Maintaining the long-term viability of the GOMEX Range Complex while protecting human health and the environment and enhancing the quality and communication capability and safety of the range complex.

Alternatives in this Draft EIS/OEIS were evaluated to ensure that they meet the purpose and the need of the proposed action, giving due consideration to range complex attributes such as the capability to support current and emerging Fleet tactical training and RDT&E requirements; the capability to support realistic, essential training at the level and frequency sufficient to support the FRTP and the Tactical Training Theater Assessment and Planning Program; and the capability to support training requirements while following Navy Personnel Tempo of Operations guidelines. Reasonable alternatives were carried through the Draft EIS/OEIS analysis.

The Draft EIS/OEIS considers three alternatives as summarized below:

(1) No Action Alternative—maintains current operations to include surge consistent with the FRTP.

(2) Alternative 1—includes No Action Alternative plus eliminates Mine Warfare training (mine countermeasures and mine neutralization) within the GOMEX Range Complex, conducts new training associated with air-to-surface bomb training, and uses more Commercial Air Services aircraft for support of Air Intercept Control Exercise oppositional forces.

(3) Alternative 2—includes most elements of Alternative 1 but would implement additional enhancements to enable the GOMEX Range Complex to meet foreseeable needs. These include implementation of the Joint National Training Capability, elimination of High Explosive (HE) bomb use during major exercise air-to-surface bombing events, decreasing HE bomb use during unit level training, and increasing Non-Explosive Practice Munition (NEPM) bomb use during major exercises. Alternative 2 is considered the Preferred Alternative.

The decision to be made by the Assistant Secretary of the Navy (Installations & Environment) is to determine which alternatives analyzed in the Draft EIS/OEIS satisfy both the level and mix of training and RDT&E to be conducted and the range capabilities enhancements to be made within the GOMEX Range Complex that best meet the needs of the Navy given that all reasonably foreseeable environmental impacts have been considered.

This Draft EIS/OEIS evaluates the potential environmental effects of GOMEX Range Complex Navy Atlantic Fleet training, RDT&E activities, and associated range capabilities enhancements over a 10-year planning horizon. Alternatives are evaluated within twenty environmental resource areas according to identified stressors. The twenty environmental resource areas include, but are not limited to, water, air quality, marine communities, marine mammals, sea turtles, fish, essential fish habitat, seabirds, migratory birds, cultural, regional economy, and public health and safety. Identified stressors include, but are not limited to, vessel movements, aircraft over flights, NEPMs, underwater detonations, and HE ordnance. The analysis includes an evaluation of the short term, long term, direct, indirect, and cumulative impacts as well as addresses methods to reduce or minimize impacts to affected resources. The analysis indicates that implementation of the No Action Alternative, Alternative 1, or Alternative 2 would not result in unavoidable significant adverse effects to resources analyzed. The analysis indicates no significant impact to resources in U.S. territorial waters and no significant harm to resources in non-territorial waters.

In accordance with 50 CFR 401.12, the Navy will prepare a biological evaluation to assess the potential effects of the proposed action on marine resources and anadromous fish protected under the Endangered Species Act (ESA). In accordance with the Marine Mammal Protection Act (16 U.S.C. 1371[a][5]), the Navy submitted a request for a Letter of Authorization for the incidental taking of marine mammals due to the proposed action. The Navy will submit a consultation package in accordance with legal requirements set forth under regulations implementing Section 7 of the ESA (50 CFR 402; 16 U.S.C 1536 (c)) for listed species under jurisdiction of the U.S. Fish and Wildlife Service and the NMFS.

The GOMEX Draft EIS/OEIS was distributed to Federal, State, and local agencies, elected officials, and other interested individuals and organizations on January 2, 2009. The public comment period will end on February 16, 2009. Copies of the GOMEX Draft EIS/OEIS are available for public review at the following libraries:

1. Bay County Public Library, 898 West 11th Street, Panama City, FL 32401;

2. Pensacola Public Library, 200 West Gregory Street, Pensacola, FL 32501;

3. West Florida Public Library—Southwest Branch, 12248 Gulf Beach Highway, Pensacola, Pensacola, FL 32507;

4. Walton County Coastal Library, 437 Greenway Trail, Santa Rosa Beach, FL 32459;

5. Meridian-Lauderdale County Public Library, 2517 Seventh Street, Meridian, MS 39301;

6. Ben May Main Library, 701 Government Street, Mobile, AL 36602;

7. East Bank Regional Library, 4747 West Napoleon Avenue, Metairie, LA 70001;

8. New Orleans Public Library—Main Library, 219 Loyola Avenue, New Orleans, LA 70112;

9. Central Library, 805 Comanche, Corpus Christi, TX 78401; and

10. Southmost Branch Library, 4320 Southmost Blvd, Southmost, TX 78522.

The GOMEX Draft EIS/OEIS is also available for electronic public viewing at http://www.GOMEXRangeComplexEIS.com. A paper copy of the executive summary or a single CD with the GOMEX Draft EIS/OEIS will be made available upon written request by contacting Naval Facilities Engineering Command, Atlantic Division; 6506 Hampton Blvd; Norfolk, VA 23508-1278; Attn: Code EV22TW (GOMEX EIS/OEIS PM); Fax: 757-322-4894.

Federal, State, and local agencies and interested parties are invited to be present or represented at the public hearing. Written comments can also be submitted during the open house sessions preceding the public hearings. Oral statements will be heard and transcribed by a stenographer; however, to ensure the accuracy of the record, all statements should be submitted in writing. All statements, both oral and written, will become part of the public record on the Draft EIS/OEIS and will be responded to in the Final EIS/OEIS. Equal weight will be given to both oral and written statements. In the interest of available time, and to ensure all who wish to give an oral statement have the opportunity to do so, each speaker's comments will be limited to three (3) minutes. If a long statement is to be presented, it should be summarized at the public hearing with the full text submitted either in writing at the hearing, or mailed or faxed to Naval Facilities Engineering Command, Atlantic Division; 6506 Hampton Blvd; Norfolk, VA 23508-1278; Attn: Code EV22TW (GOMEX EIS/OEIS PM), Fax: 757-322-4894. Comments may also be submitted on-line at http://www.GOMEXRangeComplexEIS.com during the comment period. All comments must be postmarked by February 16, 2009 to ensure they become part of the official record. All comments will be addressed in the Final EIS/OEIS.

Dated: December 22, 2008.
T. M. Cruz,
Lieutenant Commander, Office of the Judge Advocate General, U.S. Navy, Federal Register Liaison Officer.

[FR Doc. E8-31232 Filed 12-31-08; 8:45 am]

BILLING CODE 3810-FF-P